DEPARTMENT OF HEALTH AND HUMAN SERVICES

Notice of Availability: Test Tools and Test Procedures Approved by the National Coordinator for the ONC HIT Certification Program

AGENCY: Office of the National Coordinator for Health Information Technology (ONC), Department of Health and Human Services.

ACTION: Notice.

SUMMARY: This notice announces the availability of test tools and test procedures approved by the National Coordinator for Health Information Technology (the National Coordinator) for the testing of EHR technology to the 2014 Edition EHR certification criteria under the ONC HIT Certification Program. The approved test tools and test procedures are identified on the ONC Web site at: http://www.healthit.gov/policy-researchers-implementers/2014-edition-final-test-method.

FOR FURTHER INFORMATION CONTACT: Carol Bean, Director, Office of Certification, Office of the National Coordinator for Health Information Technology, 202-690-7151.

SUPPLEMENTARY INFORMATION: On January 7, 2011, the Department of Health and Human Services issued a final rule establishing a permanent certification program for the purposes of testing and certifying health information technology (“Establishment of the Permanent Certification Program for Health Information Technology,” 76 FR 1262) (Permanent Certification Program final rule). The permanent certification program was renamed the “ONC HIT Certification Program” in a final rule published on September 4, 2012 (77 FR 54163) (“2014 Edition EHR Certification Criteria final rule”). In the preamble of the Permanent Certification Program final rule, we stated that when the National Coordinator had approved test tools and test procedures for certification criteria adopted by the Secretary ONC would publish a notice of availability in the Federal Register and identify the approved test tools and test procedures on the ONC Web site. In the 2014 Edition EHR Certification Criteria final rule the Secretary adopted the 2014 Edition EHR certification criteria. The National Coordinator has approved test tools and test procedures for testing EHR technology to the 2014 Edition EHR certification criteria under the ONC HIT Certification Program. These approved test tools and test procedures are identified on the ONC Web site at: http://www.healthit.gov/policy-researchers-implementers/2014-edition-final-test-method.

Authority: 42 U.S.C. 300jj-11.

Dated: December 19, 2012.
Farzad Mostashari M.D.,
National Coordinator for Health Information Technology.

[FR Doc. 2012-31484 Filed 12-31-12; 8:45 am]

BILLING CODE 4150-45-P